DEPARTMENT OF JUSTICE

Drug Enforcement Administration

[Docket No. DEA-392]

Manufacturer of Controlled Substances Registration: Cayman Chemical Company

ACTION: Notice of registration.

SUMMARY: Cayman Chemical Company applied to be registered as a manufacturer of certain basic classes of narcotic or non-narcotic controlled substances. The DEA grants Cayman Chemical Company registration as a manufacturer of those controlled substances.

SUPPLEMENTARY INFORMATION: By notice dated December 31, 2013, and published in the Federal Register on January 10, 2014, 79 FR 1889, Cayman Chemical Company, 1180 East Ellsworth Road, Ann Arbor, Michigan 48108, applied to be registered as a manufacturer of certain basic classes of narcotic or non-narcotic controlled substances.

The Drug Enforcement Administration (DEA) has considered the factors in 21 U.S.C. 823(a) and determined that the registration of Cayman Chemical Company to manufacture the basic classes of controlled substances is consistent with the public interest and with United States obligations under international treaties, conventions, or protocols in effect on May 1, 1971. The DEA investigated the company's maintenance of effective controls against diversion by inspecting and testing the company's physical security systems, verified the company's compliance with state and local laws, and reviewed the company's background and history.

Therefore, pursuant to 21 U.S.C. 823(a), and in accordance with 21 CFR 1301.33, the above-named company is granted registration as a bulk manufacturer of the basic classes of narcotic or non-narcotic controlled substances listed:

Controlled substance | Schedule
Cathinone (1235) | I
Methcathinone (1237) | I
4-Methyl-N-methylcathinone (1248) | I
N-Ethylamphetamine (1475) | I
N,N-Dimethylamphetamine (1480) | I
Aminorex (1585) | I
4-Methylaminorex (cis isomer) (1590) | I
Gamma Hydroxybutyric Acid (2010) | I
JWH-250 (6250) | I
SR-18 also known as RCS-8 (7008) | I
XLR11 (7011) | I
JWH-019 (7019) | I
AKB48 (7048) | I
JWH-081 (7081) | I
SR-19 also known as RCS-4 (7104) | I
1-Pentyl-3-(1-naphthoyl)indole (7118) | I
JWH-122 (7122) | I
UR-144 (7144) | I
1-Butyl-3-(1-naphthoyl)indole (7173) | I
1-[2-(4-Morpholinyl)ethyl]-3-(1-naphthoyl) indole (7200) | I
AM-2201 (7201) | I
JWH-203 (7203) | I
Alpha-ethyltryptamine (7249) | I
5-(1,1-Dimethylheptyl)-2-[(1R,3S)-
3-hydroxycyclohexyl]-phenol (7297) | I
5-(1,1-Dimethyloctyl)-2-[(1R,3S) 3-hydroxycyclohexyl]-phenol (7298) | I
Lysergic acid diethylamide (7315) | I
2,5-Dimethoxy-4-(n)-propylthiophenethylamine (7348) | I
Marihuana (7360) | I
Tetrahydrocannabinols (7370) | I
Mescaline (7381) | I
2C-T-2 (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Ethyl-1-phenylcyclohexylamine (7455) | I
N-Benzylpiperazine (7493) | I
2C-D (7508) | I
2C-E (7509) | I
2C-H (7517) | I
2C-I (7518) | I
2C-C (7519) | I
2C-N (7521) | I
2C-P (7524) | I
2C-T-4 (7532) | I
MDPV (7535) | I
Methylone (7540) | I
AM-694 (7694) | I
Desmorphine (9055) | I
Dihydromorphine (9145) | I
Heroin (9200) | I
Morphine-N-oxide (9307) | I
Normorphine (9313) | I
Tilidine (9750) | I
Amphetamine (1100) | II
Methamphetamine (1105) | II
Lisdexamfetamine (1205) | II
Pentobarbital (2270) | II
Phencyclidine (7471) | II
Phenylacetone (8501) | II
Codeine (9050) | II
Dihydrocodeine (9120) | II
Oxycodone (9143) | II
Hydromorphone (9150) | II
Hydrocodone (9193) | II
Levomethorphan (9210) | II
Meperidine (9230) | II
Meperidine intermediate-B (9233) | II
Methadone (9250) | II
Dextropropoxyphene, bulk (non-dosage forms) (9273) | II
Morphine (9300) | II
Thebaine (9333) | II
Oxymorphone (9652) | II
Sufentanil (9740) | II
Fentanyl (9801) | II

The company plans to manufacture reference standards for distribution to their research and forensics customers.

In reference to drug code 7360 (Marihuana), the company plans to bulk manufacture cannabidiol as a synthetic intermediate. This controlled substance will be further synthesized to bulk manufacture a synthetic tetrahydrocannabinol (7370). No other activity for this drug code is authorized for this registration.

No comments or objections have been received.

Dated: May 28, 2014.
Joseph T. Rannazzisi,
Deputy Assistant Administrator.

[FR Doc. 2014-12952 Filed 6-3-14; 8:45 am]

BILLING CODE 4410-09-P